OFFICE OF MANAGEMENT AND BUDGET

Proposal To Extend the Information Collection 0348-0065

AGENCY: Office of Information and Regulatory Affairs, Office of Management and Budget, Executive Office of the President.

ACTION: Notice and request for comments.

SUMMARY: The Office of Information and Regulatory Affairs (OIRA) within the Office of Management and Budget (OMB) is proposing to extend the information collection 0348-0065 it uses for members of the public who request a meeting with OIRA on rules under review at the time pursuant to Executive Order 12866. The information collected would be subject to the Paperwork Reduction Act (PRA) and this notice announces and requests comment on OIRA's proposal for such a collection.

DATES: May 2, 2022.

ADDRESSES: Submit comments by the following method:

• Federal eRulemaking portal: https://www.regulations.gov. Follow the instructions for submitting comments. Comments submitted electronically, including attachments to https://www.regulations.gov, will be posted to the docket unchanged.

Instructions: Please submit comments only and cite Information Collection 0348-0065 in all correspondence related to this collection. To confirm receipt of your comment(s), please check regulations.gov, approximately two to three business days after submission to verify posting (except allow 30 days for posting of comments submitted by mail).

FOR FURTHER INFORMATION CONTACT: Oira_submission@omb.eop.gov, Lisa Jones, 202-395-5897.

SUPPLEMENTARY INFORMATION:

Title: Information on Meetings with Outside Parties Pursuant to Executive Order 12866.

Abstract: Executive Order 12866, “Regulatory Planning and Review,” issued by President Clinton on September 30, 1993, establishes and governs the process under which OIRA reviews agency draft proposed and final regulatory actions. The Executive Order also establishes a disclosure process regarding the OIRA Administrator's (or his/her designee's) meetings with outside parties during formal review of a regulatory action if such meetings occur. In such instances, OIRA would disclose the subject, date, and participants of the meeting on the Reginfo.gov website, as well as any materials provided to OIRA at such meetings.

These meetings occur at the initiative and request of outside parties who seek to present views about a regulatory action under OIRA review. Members of the public who request meetings may invite other outside parties to attend, and OIRA invites representatives from the agency or agencies that would issue the regulatory action. If such meetings occur, OIRA does not take minutes during the meeting but would, however, posts on RegInfo.gov any written materials provided by outside parties during these meetings, including the initial meeting request.

To help ensure transparency associated with meetings pursuant to Executive Order 12866, OIRA would collect—and then post publicly—the following information from outside parties that request a meeting with OIRA to present their views on a regulatory action currently under review:

1. Names of all attendees who will be present at the meeting from the outside party or parties. Each attendee's organization or affiliation. If an attendee is representing another organization, the name of the organization the attendee is representing.

2. The name of the regulatory action under review on which the party would like to present its views.

3. Electronic copies of all of briefing materials that will be used during the presentation.

4. An acknowledgment by the requesting party that all information submitted to OIRA pursuant to this collection and meeting request will be made publicly available at Reginfo.gov.

OIRA welcomes any and all public comments on the proposed collection of information such as the accuracy of OIRA's burden estimate, the practical utility of collecting this information, and whether there are additional pieces of information that could be collected from meeting requestors to further the disclosure provisions of Executive Order 12866.

Current actions: Proposal for extending an existing information collection requirement.

Type of review: Extension.

Affected public: Individuals and Households, Businesses and Organizations, State, Local or Tribal Governments.

Expected average annual number of respondents: 300.

Average annual number of responses per respondent: 2.

Total number of responses annually: 600.

Burden per response: 15 minutes.

Total average annual burden: 150 hours.

Request for comments: OMB anticipates that comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install, and utilize technology and systems for the purpose of collecting, validating, and verifying information, processing and maintaining information, and disclosing and providing information; to train personnel and to be able to respond to a collection of information, to search data sources, to complete and review the collection of information; and to transmit or otherwise disclose the information.

An agency may not conduct or sponsor, and a person is not required to respond to, a collection of information unless it displays a currently valid OMB control number.

Dominic J. Mancini,
Deputy Administrator, Office of Information and Regulatory Affairs.

[FR Doc. 2022-04430 Filed 3-2-22; 8:45 am]

BILLING CODE 3110-01-P